OFFICE OF THE UNITED STATES TRADE REPRESENTATIVE

Conforming Amendment to Product Exclusion: China's Acts, Policies, and Practices Related to Technology Transfer, Intellectual Property, and Innovation

AGENCY: Office of the United States Trade Representative (USTR).

ACTION: Notice.

SUMMARY: Effective July 1, 2021, the U.S. International Trade Commission (USITC) implemented certain changes to statistical reporting categories in the Harmonized Tariff Schedule of the United States (HTSUS). To conform with these changes, this notice makes a technical amendment to a product exclusion in this Section 301 investigation.

DATES: The conforming amendment in the Annex to this notice is applicable as of July 1, 2021.

FOR FURTHER INFORMATION CONTACT: For general questions about this notice, contact Associate General Counsel Philip Butler at (202) 395-5725. For specific questions on customs classification or implementation of the product exclusion identified in the Annex to this notice, contact traderemedy@cbp.dhs.gov.

SUPPLEMENTARY INFORMATION:

A. Background

On July 1, 2021, the USITC, in cooperation with the interagency Committee for Statistical Annotation of Tariff Schedules, implemented certain changes in ten-digit statistical reporting categories of the HTSUS and in Schedule B under section 484(f) of the Tariff Act of 1930, 19 U.S.C. 1484(f). One of the product exclusions in the Section 301 investigation of China's Acts, Policies, and Practices Related to Technology Transfer, Intellectual Property, and Innovation, as set out at 85 FR 85831 (December 29, 2020) and 86 FR 13785 (March 10, 2021), is based on one of the amended statistical reporting categories.

B. Technical Amendment to Exclusion

The Annex to this notice conforms an existing product exclusion with the July 1, 2021 changes to ten-digit statistical reporting categories in the HTSUS. In particular, the Annex makes a technical amendment to U.S. note 20(qqq)(4) to subchapter III of chapter 99 of the HTSUS, as set out in the Annexes to the notices published at 85 FR 85831 (December 29, 2020) and 86 FR 13785 (March 10, 2021).

Annex

Effective with respect to goods entered for consumption, or withdrawn from warehouse for consumption, on or after 12:01 a.m. eastern daylight time on July 1, 2021, U.S. note 20(qqq)(4) to subchapter III of chapter 99 of the Harmonized Tariff Schedule of the United States is modified by deleting “3808.94.5090” and inserting “3808.94.5090 prior to July 1, 2021; 3808.94.5080 or 3808.94.5095 effective July 1, 2021” in lieu thereof.

Greta Peisch,
General Counsel, Office of the United States Trade Representative.

[FR Doc. 2021-16567 Filed 8-3-21; 8:45 am]

BILLING CODE 3290-F1-P